DEPARTMENT OF HOMELAND SECURITY

[Docket No. DHS-2011-0107]

Homeland Security Information Network Advisory Committee

AGENCY: Department of Homeland Security.

ACTION: Committee Management; Notice of Federal Advisory Committee Charter Renewal and Request for Applicants for Appointment to Homeland Security Information Network Advisory Committee.

SUMMARY: The Secretary of Homeland Security has determined that the renewal of the Homeland Security Information Network Advisory Committee (HSINAC) is necessary and in the public interest in connection with the performance of duties of the Department of Homeland Security. This determination follows consultation with the Committee Management Secretariat, General Services Administration.

Qualified individuals interested in serving on this committee are invited to apply for appointment.

DATES: Applications for membership should be mailed to the individual listed under FOR FURTHER INFORMATION CONTACT and should reach the Designated Federal Officer, HSINAC on or before November 18, 2011. If you desire to submit comments on the establishment of this committee, they must be received within 60 days of the publication of this notice.

ADDRESSES: Applications for appointment to the HSINAC should include a resume of no more than two pages and a letter stating their interest in joining the committee. Applications must be mailed or Emailed to:

• Email: david.steigman@dhs.gov.

• Fax: (202) 357-7678

• Mail: David Steigman, Designated Federal Officer, Homeland Security Information Network Advisory Committee, 245 Murray Lane, SW., BLDG 410, Washington, DC 20528-0426.

If you desire to submit comments on this action, they must be submitted within 60 days of the publication of this notice. Comments must be identified by docket number DHS-2011-0107 and may be submitted by one of the following methods:

• Federal eRulemaking Portal: http://www.regulations.gov. Follow the instructions for submitting comments.

• Email: David.Steigman@dhs.gov. Include the docket number, DHS-2011-0107, in the subject line of the message.

• Fax: (202) 357-7678

• Mail: David Steigman, Department of Homeland Security, 245 Murray Lane, SW., BLDG 410, Washington, DC 20528-0426.

• Instructions: All comments received must include the words “Department of Homeland Security” and DHS-2011-0107, the docket number for this action. Comments received will be posted without alteration at http://www.regulations.gov. including any personal information provided. Do not submit applications for appointment to this Web site.

Docket: For access to the docket to read background documents or comments received, go to http://www.regulations.gov.

FOR FURTHER INFORMATION CONTACT: David Steigman, 245 Murray Lane, SW., BLDG 410, Washington, DC 20528-0426; david.steigman@dhs.gov; telephone: (202) 357-7809; fax: (202) 357-7678.

Name of Committee: Homeland Security Information Network Advisory Committee (HSINAC)

SUPPLEMENTARY INFORMATION: For the reasons set forth below, the Secretary of Homeland Security has determined that the renewal of the HSINAC is necessary and in the public interest. This determination follows consultation with the Committee Management Secretariat, General Services Administration.

The HSINAC is being renewed in accordance with the provisions of the Federal Advisory Committee Act (FACA) 5 U.S.C. App. This Committee advises and makes recommendations to the Secretary of Homeland Security on matters relating to the Homeland Security Information Network (HSIN), including system requirements, operating policies, community organization, knowledge management, interoperability, federation with other systems, and any other aspect of HSIN that supports the operations of DHS and its federal, state, territorial, local, tribal, international and private sector mission partners. The committee will meet approximately three times each year, usually in the Washington, DC metropolitan area, but may meet more often as the need arises.

Balanced Membership Plans: The HSINAC will be composed of individual members possessing expertise, knowledge, and experience regarding the business processes and information sharing needs of one or more of the homeland security mission areas. Members shall be appointed based on their expertise in professions and disciplines engaged in homeland security operations and in support of homeland security mission requirements.

Because a balance of perspectives is essential to ensure that the HSINAC truly represents the broad spectrum of HSIN users, HSINAC membership shall expressly include individuals from federal, state, local, tribal, and territorial governments and the private sector, including:

1. Three members drawn from currently serving state, tribal, or local law enforcement;

2. One member drawn from currently serving federal law enforcement;

3. Two members drawn from currently serving State Homeland Security Advisors;

4. Two members drawn from currently serving emergency managers;

5. Two members drawn from currently serving fire services;

6. Two members drawn from currently serving public health or agriculture sectors;

7. Three members drawn from currently serving senior managers in private sector industries deemed critical infrastructure or key resources in the National Infrastructure Protection Plan;

8. One member drawn from currently serving in an Office of the Adjutant General of the National Guard;

9. One member drawn from currently serving State or local Chief Information Security Officer or cyber-related position within State or local government;

10. One member drawn from currently serving local, county/parish, or city government;

11. One member drawn from currently serving tribal government;

12. One member drawn from currently serving in any discipline with relevant expertise in state, local, tribal, or territorial homeland security.

Of the above-described members, two shall serve in, or have direct oversight of, different state or major urban area fusion centers.

Duration: The HSINAC Charter was filed with Congress July 14, 2011 and remains in effect through July 14, 2013.

Responsible DHS Officials: David Steigman, HSINAC Designated Federal Officer; Department of Homeland Security, 245 Murray Lane, SW., BLDG 410, Washington, DC 20528-0426; David.Steigman@dhs.gov, (202) 357-7809.

Applying for Appointment: The committee will fill all the positions listed above. The HSINAC will be composed of individual members possessing expertise, knowledge, and experience regarding the business processes and information sharing needs of one or more of the homeland security mission areas. Members are appointed based on their expertise in professions and disciplines engaged in homeland security operations and in support of homeland security mission requirements. Members will serve a term of two years. Members are appointed by the Secretary of Homeland Security at the recommendation of the HSIN Program Director.

Members of the HSINAC will be appointed and serve as Special Government Employees (SGE), as defined in section 202(a) of title 18 United States Code, except for those members who currently are serving employees of the federal government. As a candidate for appointment as a SGE, applicants are required to complete a Confidential Financial Disclosure Report (OGE Form 450). DHS may not release the forms or the information in them to the public except under an order issued by a Federal court or as otherwise provided under the Privacy Act (5 U.S.C. 552a). Applicants can obtain this form by going to the Web site of the Office of Government Ethics (http://www.oge.gov), or by contacting the individual listed above. Applications which are not accompanied by a completed OGE Form 450 will not be considered.

Members serve at their own expense and receive no salary from the Federal government, although they may be reimbursed for per diem and travel expenses.

In support of the policy of the Department of Homeland Security on gender and ethnic diversity, qualified women and minorities are encouraged to apply for membership.

Dated: October 18, 2011.
Deborah Kent,
Program Director, Homeland Security Information Network Program.

[FR Doc. 2011-28399 Filed 11-1-11; 8:45 am]

BILLING CODE P